DEPARTMENT OF DEFENSE

Department of the Army

Notice of Intent To Grant Exclusive Patent License to Applied Materials; Austin, TX

AGENCY: Department of the Army, DoD.

ACTION: Notice of intent.

SUMMARY: In compliance with 35 U.S.C. 209(e) and 37 CFR 404.7(a)(1)(i), the Department of the Army hereby gives notice of its intent to grant to Applied Materials; a corporation having its principle place of business at 10000 Spectrum Drive, Austin, TX 78717, exclusive license in the field of semiconductor technology applications relative to the following:

• U.S. Patent Number 8,866,367 entitled “Thermally oxidized seed layers for the production of {001} textured electrodes and PZT devices and method of making”, Inventors Fox et al, Issue date October 21, 2014.

• U.S. Patent Number 8,966,993 entitled “Three Dimensional Piezoelectric MEMS”, Inventors Pulskamp et al, Issue date March 3, 2015.

• U.S. Patent Application Number 14/0219,028 entitled “Stylo-Epitaxial Piezoelectric and Ferroelectric Devices and Method of Manufacturing”, Inventors Fox et al, Filing Date March 19, 2014.

DATES: The prospective exclusive license may be granted unless within fifteen (15) days from the date of this published notice, the U.S. Army Research Laboratory receives written objections including evidence and argument that establish that the grant of the license would not be consistent with the requirements of 35 U.S.C. 209 and 37 CFR 404.7. Competing applications completed and received by the U.S. Army Research Laboratory within fifteen (15) days from the date of this published notice will also be treated as objections to the grant of the contemplated exclusive license.

Objections submitted in response to this notice will not be made available to the public for inspection and, to the extent permitted by law, will not be released under the Freedom of Information Act, 5 U.S.C. 552.

ADDRESSES: Send written objections to U.S. Army Research Laboratory Technology Transfer Office, RDRL-DPP/Thomas Mulkern, Building 321 Room 110, Aberdeen Proving Ground, MD 21005-5425.

FOR FURTHER INFORMATION CONTACT: Thomas Mulkern, (410) 278-0889, email: ORTA@arl.army.mil.

SUPPLEMENTARY INFORMATION: None.

Brenda S. Bowen,
Army Federal Register Liaison Officer.

[FR Doc. 2015-24267 Filed 9-24-15; 8:45 am]

BILLING CODE 3710-08-P